NATIONAL AERONAUTICS AND SPACE ADMINISTRATION

[Notice (02-112)]

Government-Owned Inventions, Available for Licensing

ACTION: Notice of availability of inventions for licensing.

SUMMARY: The invention listed below is assigned to the National Aeronautics and Space Administration, have been filed in the United States Patent and Trademark Office, and are available for licensing.

DATES: September 27, 2002.

FOR FURTHER INFORMATION CONTACT: Linda Blackburn, Patent Counsel, NASA Langley Research Center, Mail Code 212, Hampton, VA 23681-2199; telephone (757) 864-9260, fax (757) 864-9190.

NASA Case No. LAR-15555-3: Molecular Level Coating Of Metal Oxide Particles;

NASA Case No. LAR-15686-2: A Device For The Insertion Of Discontinuous Through-The-Thickness Reinforcements Into Preforms And Prepreg Material (Div Of-1);

NASA Case No. LAR-16116-1: Giant Magnetoresistive Based Self-Nulling Probe For Deep Flaw Detection;

NASA Case No. LAR-16232-1-NP: Polymeric Blends For Sensor And Actuation Dual Functionality;

NASA Case No. LAR-16324-1: Self-Activating System And Method For Alerting When An Object Or A Person Is Left Unattended;

NASA Case No. LAR-15854-1: Method And Apparatus For Non-Invasive Measurement Of Changes In Intracranial Pressure;

NASA Case No. LAR-16176-1: Space Environmentally Durable Polyimides And Copolyimides;

NASA Case No. LAR-16279-1: Single-Element Electron-Transfer Optical Detector System;

NASA Case No. LAR-16279-2: Multi-Element Electron-Transfer Optical Detector System;

NASA Case No. LAR-16307-1-SB: Methodology For The Effective Stabilization Of Tin-Oxide-Based Oxidation/Reduction Catalysts;

NASA Case No. LAR-15943-1: Method And Apparatus For Determining Changes In Intracranial Pressure Utilizing Measurement Of The Circumferential Expansion Or Contraction Of A Patient's Skull;

NASA Case No. LAR-16126-1: Synchronized Electronic Shutter System And Method For Thermal Nondestructive Evaluation;

NASA Case No. LAR-16311-1: Heat, Moisture, Chemical Resistant Polyimide Compositions And Methods For Making And Using The Same;

NASA Case No. LAR-16482-1: Phenyethynyl-Containing Imide Silanes;

NASA Case No. LAR-15908-1: Piezoelectric Composite Device And Method For Making Same;

NASA Case No. LAR-16348-1: Base Passive Porosity For Vehicle Drag Reduction;

NASA Case No. LAR-16012-1-CU: Improvement To The Multiscale Retinex With Color Restoration;

NASA Case No. LAR-16332-1-CU: Method Of Improving A Digital Image Having White Zones.

Dated: September 20, 2002.
Robert M. Stephens,
Deputy General Counsel.

[FR Doc. 02-24523 Filed 9-26-02; 8:45 am]

BILLING CODE 7510-01-P